DEPARTMENT OF HEALTH AND HUMAN SERVICES

National Institutes of Health

Submission for OMB Review; 30-Day Comment Request: Population Sciences Biospecimen Catalog (PSBC)

SUMMARY: Under the provisions of Section 3507(a)(1)(D) of the Paperwork Reduction Act of 1995, the National Cancer Institute, the National Institutes of Health, has submitted to the Office of Management and Budget (OMB) a request for review and approval of the information collection listed below. This proposed information collection was previously published in the Federal Register on (June 30, 2015 P.37280) and allowed 60-days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30 days of the date of this publication.

FOR FURTHER INFORMATION CONTACT: To obtain a copy of the data collection plans and instruments, or request more information on the proposed project, contact: Danielle Carrick, Program Director, Division of Cancer Control and Population Sciences (DCCPS), National Cancer Institute, 9609 Medical Center Dr., Room 4E224, Rockville, MD 20850 or call non-toll-free number (240) 276-6749 or Email your request, including your address to: Danielle.Carrick@nih.gov. Formal requests for additional plans and instruments must be requested in writing.

Proposed Collection: Population Sciences Biospecimen Catalog (PSBC) (NCI), 0925—NEW, National Cancer Institute(NCI), National Institutes of Health (NIH).

Need and Use of Information Collection: This is a request for approval of a new collection. The National Cancer Institute (NCI) Division of Cancer Control and Population Sciences (DCCPS) has previously demonstrated that approximately 60% of population based studies funded by the division use existing biospecimens from other collections, and that those studies are more cost and time efficient than studies collecting new specimens. Yet, it is difficult for researchers to identify potentially appropriate sources for biospecimens and accompanying epidemiologic and exposure data. Development of a searchable inventory of population-based biospecimen resources was a major recommendation resulting from an NCI think tank held in August 2013 (“Utilizing Existing Clinical and Population Biospecimen Resources for Discovery or Validation of Markers for Early Cancer Detection”) and would also be directly addressing four of the key recommendations that emerged in an NCI sponsored workshop titled “Trends in 21st Century Epidemiology: From Scientific Discoveries to Population Health” (CEBP, 2013, issue 22, page 508). In response to this, NCI DCCPS is developing a biospecimen inventory and online searchable catalog (or “Population Sciences Biospecimen Catalog (PSBC)”). The PSBC allows scientists in the research community and the NCI to locate specimens appropriate for their population based research projects. It is not NCI's intent to collect biospecimens; rather the collections are descriptions of the available data that can act as a resource and be shared with researchers and scientists who are interested. This submission is via data upload to the secure Web site in order to collect information to manage and improve a program and its resources for the use by all scientists.

OMB approval is requested for 3 years. There are no costs to respondents other than their time. The total estimated annualized burden hours are 80.

Estimated Annualized Burden Hours
Form name | Type of respondent | Number of respondents | Number of responses per respondent | Average time per response ( in hours) | Total annual burden hour
Population Sciences Biospecimen Catalog Initial Request | Private Sector | 30 | 1 | 1 | 30
| State Government | 30 | 1 | 1 | 30
Population Sciences Biospecimen Catalog Annual Update | Private Sector | 30 | 1 | 20/60 | 10
| State Government | 30 | 1 | 20/60 | 10

Dated: September 1, 2015.
Karla Bailey,
NCI Project Clearance Liaison, National Cancer Institute, NIH.

[FR Doc. 2015-23027 Filed 9-11-15; 8:45 am]

BILLING CODE 4140-01-P